ENVIRONMENTAL PROTECTION AGENCY

[EPA-HQ-OPP-2015-0386; FRL-9929-23]

Registration Review; Draft Human Health and Ecological Risk Assessments; Notice of Availability

AGENCY: Environmental Protection Agency (EPA).

ACTION: Notice.

SUMMARY: This notice announces the availability of EPA's draft human health and ecological risk assessments for the registration reviews of flufenacet, flurprimidol, propoxur, and sodium acifluorfen, and opens a public comment period on these documents. In addition, this notice announces both the opening of the registration review docket for thidiazuron and the availability of the registration review draft human health and ecological risk assessments for thidiazuron. The Agency is opening a public comment period on both the Preliminary Work Plan and the draft risk assessments for thidiazuron. Through this program, EPA is ensuring that each pesticide's registration is based on current scientific and other knowledge, including its effects on human health and the environment.

DATES: Comments must be received on or before September 8, 2015.

ADDRESSES: Submit your comments, identified by docket identification (ID) number for the specific pesticide of interest provided in Table 1 of Unit III, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For pesticide specific information contact the Chemical Review Manager listed as the contact in Table 1 of Unit III.

For general questions on the registration review program, contact: Richard Dumas, Pesticide Re-Evaluation Division (7508P), Office of Pesticide Programs, Environmental Protection Agency, 1200 Pennsylvania Ave. NW., Washington, DC 20460-0001; telephone number: (703) 308-8015; email address: dumas.richard@epa.gov.

SUPPLEMENTARY INFORMATION:

I. General Information

A. Does this action apply to me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the Chemical Review Manager for the case in question, listed in Table 1 of Unit III of this notice.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. Authority

Registration review is EPA's periodic review of pesticide registrations to ensure that each pesticide continues to satisfy the statutory standard for registration, that is, the pesticide can perform its intended function without unreasonable adverse effects on human health or the environment. As part of the registration review process, the Agency has completed comprehensive draft human health and ecological risk assessments, including, in some cases, a screening level endangered species assessment, for all uses of these pesticides. After reviewing comments received during the public comment period, EPA may issue revised risk assessments, explain any changes to the draft risk assessments, respond to comments, and request public input on risk mitigation before completing proposed registration review decisions for flufenacet, flurprimidol, propoxur, sodium acifluorfen, and thidiazuron.

EPA is conducting its registration review of the pesticide cases listed in Table 1 of Unit III. of this notice pursuant to section 3(g) of the Federal Insecticide, Fungicide, and Rodenticide Act (FIFRA) and the Procedural Regulations for Registration Review at 40 CFR part 155, subpart C. Section 3(g) of FIFRA provides, among other things, that the registrations of pesticides are to be reviewed every 15 years. Under FIFRA, a pesticide product may be registered or remain registered only if it meets the statutory standard for registration given in FIFRA section 3(c)(5) (7 U.S.C. 136a(c)(5)). When used in accordance with widespread and commonly recognized practice, the pesticide product must perform its intended function without unreasonable adverse effects on the environment; that is, without any unreasonable risk to man or the environment, or human dietary risks of concern from residues that result from the use of a pesticide in or on food.

III. Registration Reviews

As directed by FIFRA section 3(g), EPA is reviewing the pesticide registrations for the pesticides listed in Table 1 of this Unit to ensure that each pesticide on the list continues to satisfy the FIFRA standard for registration—that is, that these pesticides can still be used without unreasonable adverse effects on human health or the environment.

Table 1—Draft Risk Assessments Being Made Available for Public Comment
Registration review case name and No. | Docket ID No. | Chemical review manager and contact information
Flufenacet, 7245 | EPA-HQ-OPP-2010-0863 | Margaret Hathaway, hathaway.margaret@epa.gov, 703-305-5076.
Flurprimidol, 7000 | EPA-HQ-OPP-2009-0630 | Kelly Ballard, ballard.kelly@epa.gov, 703-305-8126.
Propoxur, 2555 | EPA-HQ-OPP-2009-0806 | Brittany Pruitt, pruitt.brittany@epa.gov, 703-347-0289.
Sodium acifluorfen, 2605 | EPA-HQ-OPP-2010-0135 | Christina Scheltema, scheltema.christina@epa.gov, 703-308-2201.
Thidiazuron, 4092 | EPA-HQ-OPP-2015-0381 | Khue Nguyen, nguyen.khue@epa.gov, 703-347-0248.

Flufenacet. Draft Human Health and Ecological Risk Assessments (EPA-HQ-OPP-2010-0863). Flufenacet is a pre-emergent, anilide herbicide registered for use on wheat, perennial grasses grown for seed, corn for silage, field and sweet corn, soybeans, and triticale. There are no registered residential uses of flufenacet. EPA has completed draft human health and ecological risk assessments, including a screening-level listed species assessment, for all flufenacet uses. EPA acknowledges that further refinements to the listed species assessment will be completed in future revisions and requests public comment on specific areas that will reduce the uncertainties associated with the characterization of risk to listed species identified in the current assessment.

Flurprimidol. Draft Human Health and Ecological Risk Assessments (EPA-HQ-OPP-2009-0630). Flurprimidol is a plant growth regulator belonging to the pyrimidine class. It is registered for use on golf courses and ornamental turf; for landscape/woody ornamental plants and ornamental trees; and for ornamental plants grown in containers in nurseries, greenhouses, and shadehouses. EPA conducted a comprehensive human health risk assessment and did not identify any risks of concern for dietary, residential, or occupational exposures. EPA also conducted a screening level ecological risk assessment that addressed only the tree injection use of flurprimidol. Potential risks to birds, mammals, and plants were identified. All other uses of flurprimidol were addressed in a 2010 ecological risk assessment, which is posted to the registration review docket. An endangered species assessment has not been completed for flurprimidol at this time.

Propoxur. Draft Human Health and Ecological Risk Assessments (EPA-HQ-OPP-2009-0806). Propoxur is a carbamate insecticide registered for use by pest control operators to kill a variety of insects including crickets, ants, cockroaches, and silverfish. It is registered for use in and around residential, industrial, institutional, and commercial facilities (including food handling establishments and food processing plants). EPA has completed draft human health and ecological risk assessments, including a screening-level listed species assessment for all propoxur uses. EPA acknowledges that further refinements to the listed species assessment will be completed in future revisions and requests public comment on specific areas that will reduce the uncertainties associated with the characterization of risk to listed species identified in the current assessment.

Sodium acifluorfen. Draft Human Health and Ecological Risk Assessments (EPA-HQ-OPP-2010-0135). Sodium acifluorfen is a post-emergent herbicide registered for use on peanuts, soybeans, strawberries, and rice. EPA has completed draft human health and ecological risk assessments for all sodium acifluorfen uses. There are no anticipated human health risks of concern. The draft ecological risk assessment indicates that there is direct risk of adverse effects to non-target organisms, including fish, birds, and mammals, and species for which these taxa serve as surrogates, and non-target terrestrial plants. The assessment did not find risks of concern for aquatic plants.

Thidiazuron. Combined Docket Opening and Release of Draft Human Health and Ecological Risk Assessments (EPA-HQ-OPP-2015-0381). Thidiazuron is a plant growth regulator registered for use as a defoliant on cotton. There are no non-agricultural uses of thidiazuron. EPA has completed a combined problem formulation/preliminary ecological risk assessment and combined scoping document/preliminary human health risk assessment for thidiazuron. No human health risks of concern were identified. The ecological risk assessment indicated potential risks of concern to birds, terrestrial-phase amphibians, reptiles, and terrestrial plants. The Agency did not complete an endangered species risk assessment.

Pursuant to 40 CFR 155.53(c), EPA is providing an opportunity, through this notice of availability, for interested parties to provide comments and input concerning the Agency's draft human health and ecological risk assessments for these pesticides. Such comments could address, among other things, the Agency's risk assessment methodologies and assumptions, as applied to these draft risk assessments. The Agency will consider all comments received during the public comment period and make changes, as appropriate, to the draft human health and ecological risk assessments. EPA may then issue revised risk assessments, explain any changes to the draft risk assessments, and respond to comments. In the Federal Register notice announcing the availability of any such revised risk assessments for these pesticides, if the revised risk assessments indicate risks of concern, the Agency may provide a comment period for the public to submit suggestions for mitigating the risks identified in the revised risk assessments before developing a proposed registration review decision on the affected pesticide.

1. Other related information. Additional information on the individual pesticides discussed in this notice is available through the Pesticide Registration Review Status Web page, at http://www2.epa.gov/pesticide-reevaluation/individual-pesticides-registration-review. Information on the Agency's registration review program and its implementing regulation is available at http://www2.epa.gov/pesticide-reevaluation.

2. Information submission requirements. Anyone may submit data or information in response to this document. To be considered during a pesticide's registration review, the submitted data or information must meet the following requirements:

• To ensure that EPA will consider data or information submitted, interested persons must submit the data or information during the comment period. The Agency may, at its discretion, consider data or information submitted at a later date.

• The data or information submitted must be presented in a legible and useable form. For example, an English translation must accompany any material that is not in English and a written transcript must accompany any information submitted as an audiographic or videographic record. Written material may be submitted in paper or electronic form.

• Submitters must clearly identify the source of any submitted data or information.

• Submitters may request the Agency to reconsider data or information that the Agency rejected in a previous review. However, submitters must explain why they believe the Agency should reconsider the data or information in the pesticide's registration review.

As provided in 40 CFR 155.58, the registration review docket for each pesticide case will remain publicly accessible through the duration of the registration review process; that is, until all actions required in the final decision on the registration review case have been completed.

Authority: 7 U.S.C. 136 et seq.

Dated: June 22, 2015.
Richard P. Keigwin, Jr.,
Director, Pesticide Re-Evaluation Division, Office of Pesticide Programs.

[FR Doc. 2015-16422 Filed 7-7-15; 8:45 am]

BILLING CODE 6560-50-P